DEPARTMENT OF TRANSPORTATION

Federal Aviation Administration

14 CFR Part 39

[Docket No. FAA-2006-23659; Directorate Identifier 2005-NM-236-AD; Amendment 39-14863; AD 2006-26-05]

RIN 2120-AA64

Airworthiness Directives; Fokker Model F27 Mark 100, 200, 300, 400, 500, 600, and 700 Airplanes

AGENCY: Federal Aviation Administration (FAA), Department of Transportation (DOT).

ACTION: Final rule.

SUMMARY: The FAA is adopting a new airworthiness directive (AD) for all Fokker Model F27 Mark 100, 200, 300, 400, 500, 600, and 700 airplanes. This AD requires revising the Limitations section of the airplane flight manual regarding the use of continuous ignition, fuel filter heating, and resetting circuit breakers during flight in certain conditions such as icing. This AD results from reports of power loss on one or both engines in icing conditions. We are issuing this AD to advise the flightcrew that continuous ignition will not reduce the probability of power loss, and what action they must take to avoid this hazard. Loss of power in one or more engines during flight, if not prevented, could result in loss of control of the airplane.

DATES: This AD becomes effective January 31, 2007.

The Director of the Federal Register approved the incorporation by reference of a certain publication listed in the AD as of January 31, 2007.

ADDRESSES: You may examine the AD docket on the Internet at http://dms.dot.gov or in person at the Docket Management Facility, U.S. Department of Transportation, 400 Seventh Street, SW., Nassif Building, Room PL-401, Washington, DC.

Contact Fokker Services B.V., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Fokker Model F27 Mark 100, 200, 300, 400, 500, 600, and 700 airplanes. That NPRM was published in the Federal Register on January 24, 2006 (71 FR 3792). That NPRM proposed to require revising the Limitations section of the airplane flight manual regarding the use of continuous ignition, fuel filter heating, and resetting circuit breakers during flight in certain conditions such as icing.

Comments

We provided the public the opportunity to participate in the development of this AD. We received no comments on the NPRM or on the determination of the cost to the public.

Clarification of Note 1

Note 1 of the NPRM stated that the revision to the Limitations section of the Fokker F27 Airplane Flight Manual (AFM) could be done by inserting a copy of Manual Change Notification—Operational Documentation (MCNO) MCNO-F27-020, dated June 1, 2004, into the Normal Procedures, Abnormal Procedures, and Emergency Procedures sections of the Fokker F27 AFM. We have clarified Note 1 of this AD to state that the revision can be done by inserting a copy of that MCNO into the Limitations section, as specified in paragraph (f) of this AD.

Conclusion

We have carefully reviewed the available data, and determined that air safety and the public interest require adopting the AD with the change described previously. We have determined that this change will neither increase the economic burden on any operator nor increase the scope of the AD.

Costs of Compliance

This AD affects about 27 airplanes of U.S. registry. The revision takes about 1 work hour per airplane, at an average labor rate of $65 per work hour. Based on these figures, the estimated cost of the AD for U.S. operators is $1,755, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-26-05 Fokker Services B.V.: Amendment 39-14863. Docket No. FAA-2006-23659; Directorate Identifier 2005-NM-236-AD.

Effective Date

(a) This AD becomes effective January 31, 2007.

Affected ADs

(b) None.

Applicability

(c) This AD applies to all Fokker Model F27 Mark 100, 200, 300, 400, 500, 600, and 700 airplanes, certificated in any category.

Unsafe Condition

(d) This AD results from reports of power loss on one or both engines in icing conditions. We are issuing this AD to advise the flightcrew that continuous ignition will not reduce the probability of power loss, and what action they must take to avoid this hazard. Loss of power in one or more engines during flight, if not prevented, could result in loss of control of the airplane.

Compliance

(e) You are responsible for having the actions required by this AD performed within the compliance times specified, unless the actions have already been done.

Airplane Flight Manual (AFM) Revision

(f) Within 30 days after the effective date of this AD, revise the Limitations section of the Fokker F27 AFM by incorporating the information specified in Fokker Manual Change Notification—Operational Documentation (MCNO) MCNO-F27-020, dated June 1, 2004, into the Limitations section of the AFM.

Note 1: The actions required by paragraph (f) of this AD may be done by inserting a copy of MCNO MCNO-F27-020 into the Limitations section of the Fokker F27 AFM. When this MCNO, MCNO-F27-020, has been included in the general revisions of the AFM, the general revisions may be inserted in the AFM, provided the relevant information in the general revision is identical to that in MCNO MCNO-F27-020.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with Sec. 39.19 on any airplane to which the AMOC applies, notify the appropriate principal inspector in the FAA Flight Standards Certificate Holding District Office.

Related Information

(h) Dutch airworthiness directive 2004-122, dated October 28, 2004, also addresses the subject of this AD.

Material Incorporated by Reference

(i) You must use Fokker Manual Change Notification—Operational Documentation MCNO-F27-020, dated June 1, 2004, to perform the actions that are required by this AD, unless the AD specifies otherwise. The Director of the Federal Register approved the incorporation by reference of this document in accordance with 5 U.S.C. 552(a) and 1 CFR part 51. Contact Fokker Services B.V., P.O. Box 231, 2150 AE Nieuw-Vennep, the Netherlands, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 14, 2006.
Stephen P. Boyd,
Acting Manager, Transport Airplane Directorate, Aircraft Certification Service.

[FR Doc. E6-22042 Filed 12-26-06; 8:45 am]

BILLING CODE 4910-13-P